FEDERAL ELECTION COMMISSION

[Notice 2002-4]

The Voting System Standards and an Opportunity to Publicly Voice Previously Submitted Comments

AGENCY: Federal Election Commission.

ACTION: Notice of public hearing.

SUMMARY: The Federal Election Commission is announcing a public hearing on the December 13, 2001, release of the Voting System Standards.

DATES: The hearing will be held at 10:00 a.m. on Wednesday, April 17, 2002. All requests to testify must be received by the Commission by April 7, 2002. Requests to testify are limited to election officials, members of the National Association of State Election Directors' Voting System Standards Board, and those parties who have previously submitted written comments to the June 16, 2001, and/or December 13, 2001, release of the Voting System Standards.

ADDRESSES: Requests to testify should be addressed to Penelope Bonsall, Director of the Office of Election Administration, and must be submitted in either written or electronic form. Due to recent delays in mail service to government offices, electronic or fax submissions are encouraged to ensure timeliness. Written requests to testify should be sent to the Federal Election Commission, 999 E Street, NW., Washington, DC 20463. Faxed requests should be sent to (202) 219-8500, with printed copy follow-up to insure legibility. Electronic mail requests should be sent to vss@fec.gov. Persons sending requests by electronic mail must include their full name, electronic mail address and postal service address within the text of the request. Commission hearings are held in the Commission's ninth floor meeting room, 999 E Street, NW., Washington, DC.

FOR FURTHER INFORMATION CONTACT: Penelope Bonsall, Director of the Office of Election Administration, 999 E Street, NW., Washington, DC 20463, (202) 694-1095 or (800) 424-9530, ext. 1095.

SUPPLEMENTARY INFORMATION: The Voting System Standards (the “Standards”) were originally promulgated in 1990. Technological and commercial innovations during the last decade have demanded that the Standards be updated, and the project to revise them was begun in 1998. The revised Standards have two volumes. Volume I provides functional and technical requirements for a number of system types and configurations. Volume II provides testing specifications for the requirements in Volume I. Both Volumes are available at the Commission's web site (http://www.fec.gov/pages/vss/vss.html). The Commission previously released for public comment a draft of the first volume on June 16, 2001. 66 FR 35978. During this comment period, the Commission received 38 sets of comments from 39 parties. Subsequently, the Commission released the entire draft Standards on December 13, 2001. 66 FR 65708. The comment period for the December 13, 2001, draft release ended on February 1, 2002. FR Notice 2001. Twenty-seven sets of comments from twenty-three parties were received by the Commission in response to the December 13, 2001, release. Four commenters requested to testify at a public hearing if one is held.

After considering these requests and the other comments received to date in response to the notice, the Commission believes a public hearing would be helpful in considering the issues raised by the draft Standards. The hearing will be held at 10:00 a.m. on April 17, 2002.

Dated: March 18, 2002.
David M. Mason,
Chairman, Federal Election Commission.

[FR Doc. 02-6948 Filed 3-21-02; 8:45 am]

BILLING CODE 6715-01-U